NATIONAL AERONAUTICS AND SPACE ADMINISTRATION

[Notice (02-032)]

Notice of Prospective Patent License

AGENCY: National Aeronautics and Space Administration.

ACTION: Notice of prospective patent license.

SUMMARY: NASA hereby gives notice that the Enduro Medical Technology, Inc. of Manchester, Connecticut, has applied for a partially exclusive license to practice the inventions described and claimed in: U.S. Patent No. 5,174,590, entitled “Compliant Walker,” and U.S. Patent No. 4,946,421, entitled “Robot Cable-Compliant Joint,” both patents being assigned to the United States of America as represented by the Administrator of the National Aeronautics and Space Administration. Written objections to the proposed grant of a license should be sent to NASA Goddard Space Flight Center. NASA has not yet made a determination to grant the requested license and may deny the requested license even if no objections are submitted within the comment period.

DATES: Responses to this notice must be received by March 26, 2002.

FOR FURTHER INFORMATION CONTACT: Diana Cox, Lead Patent Counsel, NASA Goddard Space Flight Center, Code 710.1, Greenbelt, Maryland, 20771.

Dated: March 4, 2002.
Paul G. Pastorek,
General Counsel.

[FR Doc. 02-5713 Filed 3-8-02; 8:45 am]

BILLING CODE 7510-01-P